SOCIAL SECURITY ADMINISTRATION

[Docket No. SSA 2018-0003]

Privacy Act of 1974; Matching Program

AGENCY: Social Security Administration (SSA).

ACTION: Notice of a new matching program.

SUMMARY: In accordance with the provisions of the Privacy Act, as amended, this notice announces a new matching program with the Bureau of the Fiscal Service, Department of the Treasury (Fiscal Service).

This agreement between SSA and Fiscal Service sets forth the terms, conditions, and safeguards under which Fiscal Service will disclose ownership of Savings Securities data to SSA. This disclosure will provide SSA with information necessary to verify an individual's self-certification of his or her financial status to determine eligibility for low-income subsidy assistance (Extra Help) in the Medicare Part D prescription drug benefit program established under the Medicare Prescription Drug, Improvement, and Modernization Act of 2003.

DATES: The deadline to submit comments on the proposed matching program is 30 days from the date of publication of this notice in the Federal Register. The matching program will be effective on October 1, 2018, or once a minimum of 30 days after publication of this notice has elapsed, whichever is later. The matching program will be in effect for a period of 18 months.

ADDRESSES: Interested parties may comment on this notice by either telefaxing to (410) 966-0869, writing to Mary Ann Zimmerman, Acting Executive Director, Office of Privacy and Disclosure, Office of the General Counsel, Social Security Administration, G-401 WHR, 6401 Security Boulevard, Baltimore, MD 21235-6401, or emailing Mary.Ann.Zimmerman@ssa.gov. All comments received will be available for public inspection by contacting Ms. Zimmerman at this street address.

FOR FURTHER INFORMATION CONTACT: Interested parties may submit general questions about the matching program to Mary Ann Zimmerman, Acting Executive Director, Office of Privacy and Disclosure, Office of the General Counsel, by any of the means shown above.

SUPPLEMENTARY INFORMATION: None.

Mary Ann Zimmerman,
Acting Executive Director, Office of Privacy and Disclosure, Office of the General Counsel.

Participating Agencies: SSA and Fiscal Service.

Authority for Conducting the Matching Program: 1860D-14 of the Social Security Act (Act) (42 U.S.C. 1395w-114) requires SSA to verify the eligibility of an individual who seeks to be considered as an Extra Help eligible individual under the Medicare Part D prescription drug benefit program and who self-certifies his or her income, resources, and family size.

Purpose(s): This agreement between SSA and Fiscal Service sets forth the terms, conditions, and safeguards under which Fiscal Service will disclose ownership of Savings Securities data to SSA. This disclosure will provide SSA with information necessary to verify an individual's self-certification of his or her financial status to determine eligibility for low-income subsidy assistance (Extra Help) in the Medicare Part D prescription drug benefit program established under the Medicare Prescription Drug, Improvement, and Modernization Act of 2003 (Pub. L. 108-173).

Categories of Individuals: The individuals whose information is involved in this matching program are those individuals who apply for low-income subsidy assistance (Extra Help) in the Medicare Part D prescription drug benefit program established under the Medicare Prescription Drug, Improvement, and Modernization Act of 2003 (Pub. L. 108-173).

Categories of Records: SSA will disclose to Fiscal Service a finder file with the SSN for each individual for whom SSA requests Savings Securities ownership information. When a match occurs on an SSN, Fiscal Service will disclose the following to SSA: The denomination of the security; the serial number; the series; the issue date of the security; the current redemption value; and the return date of the finder file.

SSA will disclose to Fiscal Service a finder file with the SSN for each individual for whom it requests Savings Securities registration information. Fiscal Service bases the query on the SSN associated with the account and reports any subsequent account holdings. When a match occurs on an SSN, Fiscal Service will disclose the following to SSA: The purchase amount; the account number and confirmation number; the series; the issue date of the security; the current redemption value; and the return date of the finder file.

System(s) of Records: SSA will disclose to Fiscal Service a finder file consisting of SSNs extracted from SSA's Medicare Database (MDB) File System, 60-0321, fully published at 71 FR 42159 on July 25, 2006 and amended at 72 FR 69723 on December 10, 2007. The MDB File System is a repository of Medicare applicant and beneficiary information related to Medicare Part A, Part B, Medicare Advantage Part C, and Medicare Part D.

Fiscal Service will match the SSNs from SSA's finder file with the SSNs in Fiscal Service Savings Securities Registration Systems, which reside in the systems of records Treasury/BPD.002, “United States Savings-Type Securities Treasury/BPD” and Treasury/BPD.008, “Retail Treasury Securities Access Application-Treasury/BPD” fully published at 73 FR 42904 on July 23, 2008 and amended at 76 FR 51128 on August 17, 2011.

[FR Doc. 2018-18986 Filed 8-30-18; 8:45 am]

BILLING CODE 4191-02-P